DEPARTMENT OF THE INTERIOR

National Park Service

[NPS-WASO-NRNHL-0911-8554; 2200-3200-665]

National Register of Historic Places; Notification of Pending Nominations and Related Actions

Nominations for the following properties being considered for listing or related actions in the National Register were received by the National Park Service before September 24, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington DC 20005; or by fax, 202-371-6447. Written or faxed comments should be submitted by November 1, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

DISTRICT OF COLUMBIA

District of Columbia

Kameny, Dr. Franklin E., House, 5020 Cathedral Ave., NW., Washington, 11000773

GEORGIA

DeKalb County

Ponce de Leon Court Historic District, Ponce de Leon Ct., Decatur, 11000774

Glynn County

Glynn Academy, SE. corner of Egmont & Monck Sts., Brunswick, 11000775

Polk County

South Philpot Street Historic District, Roughly bounded by S. Philpot St., East Ave, E. Ware & Park Sts., Cedartown, 11000776

IDAHO

Ada County

Bushnell—Fisher House, 349 W. State St., Eagle, 11000777

ILLINOIS

Cook County

Creamery Package Manufacturing Company Building, 1245 W. Washington Blvd., Chicago, 11000778

Rozek, Theodore, House, 6337 N. Hermitage Ave., Chicago, 11000779

LOUISIANA

Orleans Parish

Mid-City Historic District (Boundary Increase and Decrease), Roughly bounded by City Park Ave., St. Louis St., Claiborne Ave. & I10., New Orleans, 11000780

MAINE

York County

Vines, Richard, Monument, (Colonial Revival `Artefacts' in York County, Maine MPS) 56 Bridge Rd., Biddeford, 11000781

MINNESOTA

Lake County

Halfway Ranger Station, MN 1 (Fall Lake Township), Ely, 11000782

MISSOURI

Howell County

International Shoe Company Building, 665 Missouri Ave., West Plains, 11000783

St. Louis County

Old Ferguson West Historic District, (Ferguson, Missouri, MPS) Roughly bounded by Carson Rd., Harvey & Tiffin Aves. & Florissant Rd., Ferguson, 11000784

NEVADA

Carson City Independent City

West Side Historic District, Roughly bounded by Curry, Mountain, 5th & John Sts., Carson City (Independent City), 11000785

NORTH DAKOTA

Burleigh County

Forence Lake School No. 3, 10 mi. N. of Wing off ND 14, Wing, 11000786

SOUTH DAKOTA

Minnehaha County

First National Bank of Garretson, 605 Main St., Garretson, 11000787

WISCONSIN

Racine County

Melvin Avenue Residential Historic District, Melvin Ave. generally bounded by Erie 7 N. Main Sts., Racine, 11000788

A request for REMOVAL has been made for the following resource:

MAINE

Androscoggin County

Cowan Mill Island Mill St., Lewiston, 85001656

[FR Doc. 2011-26692 Filed 10-14-11; 8:45 am]

BILLING CODE 4312-51-P